DEPARTMENT OF AGRICULTURE

Submission for OMB Review; Comment Request

July 26, 2001.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602. Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Economic Research Service

Title: Feasibility and Accuracy of Record Linkage to Estimate Multiple Program Participation

OMB Control Number: 0536-NEW.

Summary of Collection: The Economic Research Service (ERS) of the U.S. Department of Agriculture (USDA) is responsible for conducting studies and evaluations of the Nation's food assistance programs administered by the Food and Nutrition Service (FNS) of USDA. ERS has entered into a cooperative agreement with Abt Associates Inc. to study the Feasibility and Accuracy of Record Linkage to Estimate Multiple Program Participation. The study has two parts: (1) Survey of nutrition assistance information systems in 26 states and 78 school food authority. (2) Administrative data collection to test the feasibility and accuracy of record linkage and to answer research questions about multiple-program participation.

Need and Use of the Information: Information from the survey of food assistance programs will be used to assess the potential for matching client records across major food assistance programs (Food Stamp Program, Woman Infants and Children, National School Lunch Program) within a state for the purpose of estimating rates of shared clientele. The results from the survey will assist USDA in determining which data from multiple food assistance programs might be linked in the future to support improved program operations and program integrity.

Description of Respondents: Federal Government; State, Local or Tribal Governments.

Number of Respondents: 156.

Frequency of Responses: Reporting: On occasion.

Total Burden Hours: 117.

Economic Research Service

Title: Emergency Food Assistance System Client Survey.

OMB Control Number: 0536-NEW.

Summary of Collection: USDA, through the Food and Nutrition Service, administers several food assistance programs that help low-income households obtain adequate and nutritious diets. The largest USDA food assistance program, the Food Stamp Program, is designed to provide nutrition assistance through normal channels of trade by providing low-income consumers with purchasing power to buy food at market prices from food retailers authorized to participate in the program. Other programs such as the National School Lunch Program (NSLP), the School Breakfast Program (SBP), and the Temporary Emergency Food Assistance Program (TEFAP) provide nutrition assistance outside regular marketing channels. The TEFAP distribute commodity foods to State and local agencies for distribution to low-income households for home consumption, or to charitable organizations like emergency kitchens that provide meals for needy people. In order to fully assess the role of the Emergency Food Assistance System (EFAS) and its interaction with USDA nutrition assistance programs in meeting clients' nutrition needs, the Economic Research Service (ERS) will conduct an Emergency Food Assistance Study of providers and clients.

Need and Use of the Information: ERS will collect information to: (1) Assess current nutrition assistance programs; (2) plan future programs; (3) characterize EFAS clients; (4) determine the precipitating events that led clients to seek emergency food assistance; (5) determine EFAS clients' participation in federal nutrition assistance and other benefit programs; (6) determine clients' perception of the adequacy of the food baskets and meals received from EFAS providers; (7) assess the food security status of EFAS clients. Not conducting the study would diminish the information available to USDA on why and how frequently low-income population groups utilize EFAS in addition to or instead of the Food Stamp Program and other USDA nutrition assistance programs.

Description of Respondents: Individuals or households; not-for-profit institutions.

Number of Respondents: 4,870.

Frequency of Responses: Reporting: On occasion.

Total Burden Hours: 1,212.

Farm Service Agency

Title: Forms for Participation in a 7-Year Production Flexibility Contract.

OMB Control Number: 0560-0092.

Summary of Collection: Eligible owners or producers sign a Production Facility Contract (PFC) to participate in the program authorized by the Federal Agriculture Improvement and Reform Act of 1996. The 1996 Act provides that farms having a history of participating in government programs could enroll in a PFC and the owners and producers who participate and fully comply with the terms of the PFC and regulations will receive payments.

Need and Use of the Information: The PFC worksheet is provided to the owner or producer to confirm the acreage that will be enrolled for participation, designate each producers share request an advance payment, provide for undesignated shares for any fiscal year where payment shares are unknown and allow producers to adjust the level of participation and projects payments for the contract period. The county Farm Service Agency committee determines whether: (1) Requests are properly completed, (2) payment shares are proper, and (3) program requirements are met for payment approval. Information collected for the PFC program is required for participation and is not available from any other source.

Description of Respondents: Farms; individuals or households.

Number of Respondents: 2,131,523.

Frequency of Responses: Reporting: On occasion; annually.

Total Burden Hours: 2,664,404.

Farm Service Agency

Title: Highly Erodible Land Conservation and Wetland Conservation (7 CFR part 12).

OMB Control Number: 0560-0185.

Summary of Collection: The Food Security Act of 1985 as amended by the Federal Agriculture Conservation and Trade Act of 1990 and the Federal Agriculture Improvement and Reform Act of 1996 provides that any person who produces an agricultural commodity on a field that is predominately highly erodible, converts wetland, or plants an agricultural commodity on converted wetland after December 23, 1985, shall be ineligible for certain program benefits. These provisions are an attempt to preserve the nation's wetland and to reduce the rate at which the conversion of highly erodible land occurs which contributes to the national erosion problem. The Farm Service Agency (FSA) collects information using several forms from producers with regard to their financial activities on their land that could affect their eligibility for requested USDA benefits.

Need and Use of the Information: Information must be collected from producers to certify that they intend to comply with the conservation requirements on their land to maintain their eligibility. Additional information may be collected if producers request that certain activities be exempt from provisions of the statute in order to evaluate whether the exempted conditions will be met. The collection of information allows the FSA county employees to perform the necessary compliance checks and fulfill USDA's objectives towards preserving wetlands and reducing erosion.

Description of Respondents: Farms; individuals or households

Number of Respondents: 200,000.

Frequency of Responses: Reporting: On occasion.

Total Burden Hours: 251,153.

Risk Management Agency

Title: Dairy Options Pilot Program (DOPP), Round III.

OMB Control Number: 0563-0058.

Summary of Collection: Section 191 of the Federal Agricultural Improvement and Reform Act of 1996 (FAIR Act) authorizes the Secretary of Agriculture to conduct a pilot program for one or more agricultural commodities to determine the feasibility of the use of futures and options as risk management tools to protect producers from fluctuations in prices, yield and income. Section 134 of the Agricultural Risk Protection Act of 2000 amended section 191 Federal Agricultural Improvement and Reform Act (FAIR) of 1996 that resulted in new requirements for the Dairy Options Pilot Program (DOPP). This amendment expanded the eligible pilot counties in an options pilot program to a maximum of 300 with no more than 25 counties in any one state.

The collection of information will take place through the use of three forms. The first form, CCC-320, Diary Options Pilot Program Application is completed by the applicant and will be used to measure the number of options that the producer is eligible to purchase under the DOPP. The second form, CCC 320-1, Broker Agreement of the Diary Option Pilot Program, will ensure that participating brokers certify that their information systems' compliance with Year 2000 requirements. The third form, CCC-321, Authorization for Release of Information Regarding Options Contracts, permits the Government to obtain information on trading activity from the brokers used by DOPP participants.

Need and use of the information: The Risk Management Agency (RMA) will use the information collected to establish producer eligibility, help to verify compliance of participating producers and brokers, and assist in evaluating the effectiveness of put options as a risk management tool for dairy farmers. Without the information provided by the producers through their brokers, RMA will be unable to evaluate the effectiveness of the options contracts as risk management tools to the producer and will only be able to gauge compliance with the contracts' terms by numerous, labor intensive on-site audits of producers and brokers

Description of Respondents: Individuals or households, Farms, Business or other for profit; Federal Government.

Number of Respondents: 9,685.

Frequency of Responses: Recordkeeping; reporting: Semi-annually and as funds permit; third party disclosure.

Total Burden Hours: 38,015.

Rural Housing Service

Title: 7 CFR 1822-G, Rural Housing Loans, Policies, Procedures and Authorizations.

OMB Control Number: 0575-0071.

Summary of Collection: Section 523 and 524 of the Housing Act of 1949 authorizes loans for acquiring and developing housing sites for low and moderate-income housing. Information is necessary to protect the public from projects being built in areas of low need by applicants that are unable to administer and program properly.

Need and Use of the Information: Rural Housing Service (RHS) uses the information collected to verify and ensure program eligibility requirements, appropriate use of loans, and continuing with legislative requirements. If the information were not collected, RHS would be unable to determine if the organization qualifies for loan assistance.

Description of Respondents: Not-for-profit institutions; State, Local or Tribal Government.

Number of Respondents: 6.

Frequency of Responses: Recordkeeping; reporting: On occasion.

Total Burden Hours: 36.

Animal and Plant Health Inspection Service

Title: U.S. Origin Health Certificate.

OMB Control Number: 0579-0020.

Summary of Collection: As part of its mission, the Department of Agriculture, Animal and Plant Health Inspection Service (APHIS), Veterinary Services (VS), maintains information regarding the import health requirements of other countries for animals and animal products exported from the United States. Most countries require a certification that our animals are free from specific diseases and show no clinical evidence of disease. The VS form 17-140, U.S. Origin Health Certificate, is used to meet these requirements.

Need and Use of the Information: The U.S. Origin Health Certificate is used in connection with the exportation of animals to foreign countries and is completed and authorized by APHIS veterinarian. The information collected is used to: (1) Establish that the animals are moved in compliance with USDA regulations, (2) verify that the animals listed for export are listed on health certificate by means of an official identification, (3) verify to the consignor and consignee that the animals are healthy to export, (4) prevent unhealthy animals from being exported and (5) satisfy the import requirements of receiving countries.

Description of Respondents: Business or other for-profit; Federal Government.

Number of Respondents: 2,800.

Frequency of Responses: Reporting: On occasion.

Total Burden Hours: 21,009.

Animal and Plant Health Inspection Service

Title: Request for Credit Account Approval for Reimbursable Services.

OMB Control Number: 0579-0055.

Summary of Collection: The Debt Collection Improvement Act of 1996 (P.L. 104-134 Section 31001(x) of 31 U.S.C. 7701, requires that Agencies collect tax identification numbers from all persons doing business with the Government for purposes of collecting delinquent debts. The services of an inspector is to clear imported and exported commodities requiring release by Agency personnel are covered by user fees during regular working hours. The Animal and Plant Health Inspection Service (APHIS) will collect information using APHIS form 192, Application for Credit Account and Request for Service.

Need and Use of the Information: APHIS will collect information to support requests for credit accounts for reimbursable overtime and import/export services and to provide information to prepare billings for such services performed. The information will be used by the Field Servicing Office to conduct a credit check on prospective applicants to ensure credit worthiness prior to extending credit services.

Description of Respondents: Business or other for-profit; individuals or households; not-for-profit institutions; Federal Government.

Number of Respondents: 360.

Frequency of Responses: Reporting: On occasion.

Total Burden Hours: 90.

Grain Inspection, Packers & Stockyards Administration

Title: Regulations and Related Reporting and Recordkeeping Requirements—Packers and Stockyards Programs.

OMB Control Number: 0580-0015.

Summary of Collection: The Grain Inspection, Packers and Stockyards Administration (GIPSA) administers the provisions of the Packers and Stockyards Act of 1921 (7 U.S.C. 181, et seq.) and the regulations under the Act. The Act authorizes the collection of information for the purpose of enforcing the Act and regulations and to conduct studies as requested by Congress. The Act is designed to protect the financial interests of livestock and poultry producers engaged in commerce of livestock and live poultry sold for slaughter. It also protects members of the livestock and poultry marketing, processing, and merchandising industries from unfair competitive practices. GIPSA will collect information using several forms.

Need and Use of the Information: GIPSA will collect information to monitor and examine financial, competitive, and trade practices in the livestock, meat packing, and poultry industries. Also, the information will help assure that the regulated entities do not engage in unfair, unjustly discriminatory, or deceptive trade practices or anti-competitive behavior.

Description of Respondents: Business or other for-profit.

Number of Respondents: 10,950.

Frequency of Responses: Recordkeeping; third party disclosure; reporting: on occasion; semi-annually.

Total Burden Hours: 304,253.

Food and Nutrition Service

Title: Food Coupon Accountability Report.

OMB Control Number: 0584-0009.

Summary of Collection: The Food Stamp Act of 1977, (the Act) authorizes the Food and Nutrition Service (FNS), on behalf of the Secretary of Agriculture, to develop procedures for the delivery of food stamp coupons to issue agents and bulk storage points, and for monitoring the level of coupon inventories. Regulations for the Food Stamp Program require that each issuance and bulk inventory point report monthly issuance and food stamp inventory activity to FNS through the State agency using form FNS-250, Food Coupon Accountability Report.

Need and Use of the Information: The information collected on the FNS-250, Food Coupon Accountability Report, includes beginning and end-of-month coupon inventories, receipt and transfers of coupon shipments, coupons returned to inventory, and credits. The reported data is used by the FNS regional offices to validate the State agency liability billing for food stamp losses.

Description of Respondents: State, Local, or Tribal Government.

Number of Respondents: 475.

Frequency of Responses: Recordkeeping; reporting: Monthly.

Total Burden Hours: 17,100.

Food and Nutrition Service

Title: Food Stamp Forms: Applications, Periodic Reporting Notices.

OMB Control Number: 0584-0064.

Summary of Collection: The Food Stamp Act of 1977 (the Act) establishes a program whereby needy households may apply for and receive food stamp benefits. The Act requires certain reporting and recordkeeping requirements in administering the program. The Act specifies national eligibility standards and imposes certain administrative requirements on State agencies in administering the program. Information must be collected from households to assure that they are eligible for the program and that they receive the correct amount of food stamp benefits. Information collected is limited to that necessary for the administration and enforcement of the Food Stamp Program. The four laws associated with the application and certification of households for the Food Stamp Program are: Public Law 104-193, the Personal Responsibility and Work Opportunity Reconciliation Act (PRWORA), dated 8/22/96; Public Law 104-208, the Omnibus Consolidated Appropriations Act (OCAA), dated 9/30/96; Public Law 105-33, the Balanced Budget Act (BBA), dated August 5, 1997; and Public Law 105-185, the Agricultural Research, Extension and Education Reform Act of 1998 (AREERA), dated June 23, 1998. The various provisions of these laws are implemented at 7 CFR Part 272, 273, and 274.

Need and Use of the Information: FNS will collect information to determine the eligibility of households for the food stamp program and to determine the correct benefit levels for eligible households. The social security number will be used to check the identity of household members, to prevent duplicate participation, to make mass food stamp changes, and to verify information. If information is not collected to certify households in accordance with the Act or changing the frequency of information or reporting requirements as they relate to the application, certification, and continued eligibility of households would result in a direct violation of the Act and its implementing regulations. Further, benefits could be over or under issued for a long period of time if the necessary information is not collected or actions are not taken in a timely manner.

Description of Respondents: State, Local, or Tribal Government; Individuals or households.

Number of Respondents: 18,131,799.

Frequency of Responses: Recordkeeping; reporting: On occasion; Monthly.

Total Burden Hours: 28,333,895.

Forest Service

Title: Improve Management of the Tongass National Forest and Service to Local.

OMB Control Number: 0596-NEW.

Summary of Collection: The Tongass National Forest encompasses nearly 85 percent of the land in southeast Alaska and forms the basis for the regional economy. Commercial fishing, timber production, mineral extraction, and the quickly growing tourism industry depend on the renewable and non-renewable natural resources of this national forest. The National Forest Management Act of 1976 requires Forest plans; the Alaska National Interest Conservation Act of 1980 requires evaluation of forest plans and other use actions in Alaska that may affect subsistence use of fish and wildlife. The Forest Service (FS) will manage the Tongass National Forest, the nation's largest National Forrest, over the next 10-15 years. Tourism, expected to continue to grow at 10-20% per year in coming years, is beginning to tax both the natural resources and the resident communities of the area. The Tongass Land Management Plan recognized significant changes in public use of the forest and in public values and attitudes and identifies the information needed to collect relevant socioeconomic date.

Need and Use of the Information: FS will collect information to identify needs by providing information on public use of the Tongass National Forest and on public attitudes and values relevant to the forest management issues that are likely to be important in coming years. The information collected will help in making regular management decisions and in developing larger scale plans for the Tongass National Forest. If the information is not collected, FS decision-making lacks essential information.

Description of Respondents: Individuals or households.

Number of Respondents: 1600.

Frequency of Responses: Reporting: On occasion.

Total Burden Hours: 800.

Forest Service

Title: Publication Comment Card.

OMB Control Number: 0596-NEW.

Summary of Collection: Executive Order 12862 issued September 11, 1993, directed Federal agencies to change the way they do business, to reform their management practices, to provide service to the public that matches or exceeds the best service available in the private sector, and to establish and implement customer service standards to carry out principles of the National Performance Review. In response to this Executive Order, the Forest Service (FS) Southern Research Station developed a “Publication Comment” Card for inclusion when distributing scientific research publications. FS realizes that some changes in their publications may be necessary to achieve their goals and wishes to elicit voluntary feedback from their readers to help determine the changes to make.

Need and Use of the Information: FS will use the comment card to collect information, which will ask the respondents to rate the publication that they received or read. The information will be used to improve the readability and usefulness of FS articles, papers, and books. If the information is not collected FS will forgo any opportunity to learn valuable information from readers that would help them improve their products to better meet their needs.

Description of Respondents: Business or other for-profit; individuals or households; not-for-profit institutions; Federal Government; State, Local or Tribal Government.

Number of Respondents: 222,000.

Frequency of Responses: Reporting: On occasion.

Total Burden Hours: 1833.

Food and Nutrition Service

Title: Food Stamp Program Regulations, Part 275—Quality Control.

OMB Control Number: 0584-0303.

Summary of Collection: The Food and Nutrition Service (FNS), as administrator of the Food Stamp Program, requires each State's agency to implement a quality control system to provide basis for determining each State agency's error rates through review of a sample of Food Stamp cases. Each State agency is responsible for the design and selection of the quality control samples and must submit a quality control sampling plan for approval to FNS. Additionally, State agencies are required to maintain case records for three years to ensure compliance with provisions of the Food Stamp Act of 1977.

Need and Use of the Information: The quality control sampling plan is necessary to FNS to monitor State operations and is essential to the determination of a State agency's error rate and corresponding entitlement to increased Federal share of its administrative costs or liability for sanctions.

Description of Respondents: State, Local, or Tribal Government; Federal Government.

Number of Respondents: 53.

Frequency of Responses: Recordkeeping; reporting: On occasion; Annually.

Total Burden Hours: 3,830.

Agricultural Marketing Service

Title: Reporting and Recordkeeping Requirements Under Regulations (Other than Rules of Practice) Under the Perishable Agricultural Commodities Act, 1930.

OMB Control Number: 0581-0031.

Summary of Collection: The Perishable Agricultural Commodities Act (PACA) establishes a code of fair trading practices covering the marketing of fresh and frozen fruits and vegetables in interstate or foreign commerce. It protects growers, shippers and distributors by prohibiting unfair practices. PACA requires nearly all person who operates as commission merchants, dealers (of which now restaurants are a subset) and brokers buying or selling fruit and or vegetables in interstate or foreign commerce to be licensed.

Need and Use of the Information: AMS will collect information from the applicant to administer licensing provisions under the Act. Because of the volatility of the producer industry, it would impossible to regulate, if this information were collected less frequently.

Description of Respondents: Business or other for-profit; not-for-profit institutions; individuals or households; farms.

Number of Respondents: 15,829.

Frequency of Responses: Recordkeeping; reporting: On occasion.

Total Burden Hours: 155,138.

Agricultural Marketing Service

Title: Reporting Forms Under Milk Marketing Order Programs (From Milk Handlers and Milk Marketing Cooperatives).

OMB Control Number: 0581-0032.

Summary of Collection: Agricultural Marketing Service (AMS) oversees the administration of the Federal Milk Marketing Orders authorized by the Agricultural Marketing Agreement Act of 1937, as amended. This Act provides the framework for long-run process and marketing stability. The Federal Milk Marketing Order regulations require that milk handlers report in detail the receipt and utilization of milk and milk products handled at each of their plants that are regulated by a Federal Order. The report of receipts and utilization and the Producer Payroll report are completed by regulated milk handlers and milk marketing cooperative and are the principal reporting forms needed to administer the 11 Federal Milk Marketing Orders.

Need and Use of the Information: The information collected is needed to administer the classified pricing system and related requirements of each Federal Order. Forms are used for reporting purposes and to establish the quantity of milk received by handlers, the pooling status of the handler, and the class-use of the milk used by the handler and the butterfat content and amounts of other components of the milk. Without the monthly information, the market administrator would not have the information to compute each monthly price nor know if handlers were paying producers on dates prescribed in the order. Penalties are imposed for order violation, such as the failure to pay producers by the prescribed dates.

Description of Respondents: Business or other for-profit; not-for-profit institutions; individuals or households; farms.

Number of Respondents: 692.

Frequency of Responses: Recordkeeping; reporting: On occasion; quarterly; monthly; annually.

Total Burden Hours: 23,858.

Sondra A. Blakey,
Departmental Information Clearance Officer.

[FR Doc. 01-19017 Filed 7-30-01; 8:45 am]

BILLING CODE 3410-01-M